DEPARTMENT OF COMMERCE

National Telecommunications and Information Administration

[Docket Number: 981203295-2010-07; CFDA: 11.552]

RIN 0660-ZA06

Technology Opportunities Program

AGENCY: National Telecommunications and Information Administration, Commerce.

ACTION: Notice of availability of funds.

SUMMARY: On December 6, 2001, the National Telecommunications and Information Administration (NTIA) announced the Solicitation of Grant Applications for the Technology Opportunities Program (TOP). At the time the Notice of Solicitation of Grant Applications appeared in the Federal Register, TOP had not been appropriated funds through the fiscal year. TOP is publishing this Notice of Availability of Funds to announce the fiscal year 2002 appropriation amount for TOP grants.

DATES: Complete applications for the Fiscal Year 2002 TOP grant program must be mailed or hand-carried to the address indicated below and received by NTIA no later than 8 P.M. EST, March 21, 2002. NTIA anticipates the processing and selection of applications for funding will require 6 months. NTIA expects to announce FY 2002 awards prior to September 30, 2002.

ADDRESSES: Completed applications must be mailed, shipped, or sent overnight express to: Technology Opportunities Program, National Telecommunications and Information Administration, U.S. Department of Commerce, 1401 Constitution Avenue, NW., HCHB, Room 4092, Washington, DC 20230.

or hand-delivered to: Technology Opportunities Program, National Telecommunications and Information Administration, U.S. Department of Commerce, HCHB, Room 1874, 1401 Constitution Avenue, NW., Washington, DC 20230.

Room 1874 is located at entrance #10 on 15th Street NW., between Pennsylvania and Constitution Avenues.

FOR FURTHER INFORMATION, CONTACT: Stephen J. Downs, Director of the Technology Opportunities Program. Telephone: 202-482-2048; fax: 202-501-5136; e-mail: top@ntia.doc.gov.

SUPPLEMENTARY INFORMATION:

Authority

Departments of Commerce, Justice, and State, the Judiciary, and Related Agencies Appropriations Act, 2002, Public Law 107-77.

Funding Availability

On December 6, 2001, NTIA announced in the Federal Register, 66 FR 235, that TOP was soliciting grant applications. The Notice of Solicitation of Grant Applications did not announce the amount of available funds because, at the time the Notice was drafted, a final appropriation for TOP was enacted into law. On November 28, 2001, by enactment of Public Law 107-77, TOP was appropriated approximately $12.4 million for grants in FY 2002.

Except to note that funding for TOP is approximately $12.4 million for grants in FY 2002, all other information announced in the Notice of Solicitation of Grant Applications remains in effect. In addition, the Guidelines for Preparing Applications—Fiscal Year 2002 were unchanged by the appropriations legislation and should now be considered final.

Other Information

For further information on the TOP, please refer to the program's Notice of Solicitation of Grant Applications, 66 FR 235 (December 6, 2001). Materials needed to complete an application can be obtained electronically via TOP's web site at http://www.ntia.doc.gov/top or by contacting the TOP office at 202-482-2048.

Nancy J. Victory,
Assistant Secretary for Communications and Information.

[FR Doc. 02-2071 Filed 1-28-02; 8:45 am]

BILLING CODE 3510-60-P